ENVIRONMENTAL PROTECTION AGENCY

[FRL-7389-4]

Agency Information Collection Activities: Submission for OMB Review; Comment Request; National Emission Standards for Hazardous Air Pollutants for Source Categories: Generic Maximum Achievable Control Technology

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: National Emission Standards for Hazardous Air Pollutants for Source Categories: Generic Maximum Achievable Control Technology Standards (40 CFR part 63, subpart YY); OMB Control Number 2060-0420; expiration date September 30, 2002. The ICR describes the nature of the information collection and its expected burden and cost; where appropriate, it includes the actual data collection instrument.

DATES: Comments must be submitted on or before November 1, 2002.

ADDRESSES: Send comments, referencing EPA ICR Number 1871.03 and OMB Control Number 2060-0420, to the following addresses: Susan Auby, United States Environmental Protection Agency, Collection Strategies Division (Mail Code 2822T), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR, contact Susan Auby at EPA by phone at (202) 566-1672, by e-mail at auby.susan@epa.gov or download off the Internet at http://www.epa.gov/icr and refer to EPA ICR Number 1871.03. For technical questions about the ICR, contact María Malavé in the Office of Compliance at (202) 564-7027 or via E-mail to malave.maria@epa.gov.

SUPPLEMENTARY INFORMATION: Title: National Emission Standards for Hazardous Air Pollutants for Source Categories: Generic Maximum Achievable Control Technology (40 CFR Part 63, Subpart YY); OMB Control Number 2060-0420; EPA ICR Number 1871.03; expiration date September 30, 2002. This is a request for an extension of a currently approved collection.

Abstract: The National Emission Standards for Hazardous Air Pollutants (NESHAP) for Source Categories: Generic Maximum Achievable Control Technology (hereafter, this subpart is referred to as the “generic MACT”), published at 40 CFR part 63, subpart YY, were proposed on October 14, 1998 (63 FR 55178), and promulgated on June 29, 1999 (64 FR 34854). The rule addressed hazardous air pollutant (HAP) emission sources in four categories: Polycarbonates (PC) Production, Acrylic and Modacrylic Fibers (AMF) Production, Acetal Resins (AR) Production and Hydrogen Fluoride (HF) Production. On November 22, 1999, the Agency proposed wastewater provisions amendments (64 FR 63779) to the promulgated generic MACT applicable to the AR, AMF, and PC production source categories. The HF production source category does not have wastewater streams. This Information Collection Request (ICR) addresses these four source categories. On December 6, 2000, at 63 FR 76408, the Agency added four additional source categories to the Generic MACT rule including: cyanide chemicals manufacturing, carbon black production, ethylene production, and spandex production, which are being addressed by ICR Number 1983.02, OMB Number 2060-0489.

Respondents are required to submit one-time reports of the (1) start of construction for new facilities or an initial notification if it is an existing source at the time of rule promulgation, (2) anticipated and actual start-up dates for new facilities, and (3) physical or operational changes to existing facilities. Owners and operators must also submit periodic reports (semiannual or according to the schedule for Title V) and leak detection and repair (LDAR) semiannual reports which could be submitted with the periodic reports. The specific monitoring and recordkeeping requirements will vary for each of the four source categories depending on the required control equipment and monitoring equipment. All records are to be maintained by the facility for a minimum of five years.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2002. No comments were received.

Burden Statement: The annual public reporting and recordkeeping burden for this collection of information is estimated to average 138 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Any owner or operator of acetal resins production, acrylic and modacrylic fiber production, hydrogen fluoride production, and polycarbonates production.

Estimated Number of Respondents: 10.

Frequency of Response: Semiannual and on occasion.

Estimated Total Annual Hour Burden: 4,077.

Estimated Total Annualized Capital, O&M Cost Burden: $107, 289.

Send comments on the Agency's need for this information, the accuracy of the provided burden estimates, and any suggested methods for minimizing respondent burden, including through the use of automated collection techniques to the addresses listed above. Please refer to EPA ICR Number 1871.03 and OMB Control Number 2060-0420 in any correspondence.

Dated: September 25, 2002.
Oscar Morales,
Director, Collection Strategies Division.

[FR Doc. 02-25042 Filed 10-1-02; 8:45 am]

BILLING CODE 6560-50-P